DEPARTMENT OF ENERGY

Federal Energy Regulatory Commission

Combined Notice of Filings #1

Take notice that the Commission received the following exempt wholesale generator filings:

Docket Numbers: EG17-124-000.

Applicants: Lackawanna Energy Center LLC.

Description: Notice of Self-Certification of Exempt Wholesale Generator Status of Lackawanna Energy Center LLC.

Filed Date: 7/13/17.

Accession Number: 20170713-5127.

Comments Due: 5 p.m. ET 8/3/17.

Docket Numbers: EG17-125-000.

Applicants: SUNE Beacon Site 5, LLC.

Description: Notice of Self-Certification of EWG Status of SunE Beacon Site 5 LLC.

Filed Date: 7/13/17.

Accession Number: 20170713-5135.

Comments Due: 5 p.m. ET 8/3/17.

Docket Numbers: EG17-126-000.

Applicants: Rattlesnake Power, LLC.

Description: Self-Certification of EG of Rattlesnake Power, LLC.

Filed Date: 7/13/17.

Accession Number: 20170713-5136.

Comments Due: 5 p.m. ET 8/3/17.

Docket Numbers: EG17-127-000.

Applicants: Apple Blossom Wind, LLC.

Description: Self-Certification of EWG of Apple Blossom Wind, LLC.

Filed Date: 7/13/17.

Accession Number: 20170713-5155.

Comments Due: 5 p.m. ET 8/3/17.

Take notice that the Commission received the following electric rate filings:

Docket Numbers: ER10-2331-067; ER10-2319-057; ER10-2317-057; ER13-1351-039; ER10-2330-064.

Applicants: J.P. Morgan Ventures Energy Corporation, BE Alabama LLC, BE CA LLC, Utility Contract Funding, L.L.C., Florida Power Development LLC.

Description: Notice of Non-Material Change in Status of the J.P. Morgan Sellers.

Filed Date: 7/13/17.

Accession Number: 20170713-5226.

Comments Due: 5 p.m. ET 8/3/17.

Docket Numbers: ER11-4505-002.

Applicants: Backyard Farms Energy LLC.

Description: Notice of Non-Material Change in Status of Backyard Farms Energy LLC.

Filed Date: 7/13/17.

Accession Number: 20170713-5225.

Comments Due: 5 p.m. ET 8/3/17.

Docket Numbers: ER17-2086-000.

Applicants: PJM Interconnection, L.L.C.

Description: § 205(d) Rate Filing: Amendment to Service Agreement No. 1405, Queue No. O11 to Assign to BC Landfill to be effective 11/23/2005.

Filed Date: 7/13/17.

Accession Number: 20170713-5057.

Comments Due: 5 p.m. ET 8/3/17.

Docket Numbers: ER17-2087-000.

Applicants: Hog Creek Wind Project, LLC.

Description: Baseline eTariff Filing: MBR Appliciation to be effective 9/11/2017.

Filed Date: 7/13/17.

Accession Number: 20170713-5132.

Comments Due: 5 p.m. ET 8/3/17.

Docket Numbers: ER17-2088-000.

Applicants: Apple Blossom Wind, LLC.

Description: Baseline eTariff Filing: Apple Blossom Wind, LLC Petition for Order Accepting Market-Based Rate Tariff to be effective 9/1/2017.

Filed Date: 7/13/17.

Accession Number: 20170713-5169.

Comments Due: 5 p.m. ET 8/3/17.

Docket Numbers: ER17-2089-000.

Applicants: Idaho Power Company.

Description: § 205(d) Rate Filing: 2017 Update to Depreciation Rates to be effective 6/1/2017.

Filed Date: 7/14/17.

Accession Number: 20170714-5002.

Comments Due: 5 p.m. ET 8/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2017.
Nathaniel J. Davis, Sr.,
Deputy Secretary.

[FR Doc. 2017-15328 Filed 7-20-17; 8:45 am]

BILLING CODE 6717-01-P